DEPARTMENT OF THE INTERIOR

Bureau of Land Management

[NM-952-07-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey for Township 12 North, Range 12 East, accepted January 19, 2007, for Group 1047 New Mexico.

The plat representing the dependent resurvey and survey for Township 13 North, Range 14 East, accepted January 29, 2007, for Group 1059 New Mexico.

The plat representing the dependent resurvey for Township 7 North, Range 3 East, accepted March 12, 2007, for Group 1039 New Mexico.

The plat representing the dependent resurvey and survey for Township 17 North, Range 8 East, accepted March 14, 2007, for Group 1050 New Mexico.

The plat representing the dependent resurvey and survey for Township 17 North Range 9, East, accepted March 20, 2007, for Group 1058 New Mexico.

The plat representing the dependent resurvey and subdivision of sections for Township 24 North, Range 9 East, accepted March 26, 2007, for Group 998 New Mexico.

The plat in two sheets representing the dependent resurvey and subdivision of sections for Township 14 North, Range 18 West, accepted April 30, 2007, for Group 1038 New Mexico.

The plat in representing the dependent resurvey and subdivision of sections for Township 3 North, Range 6 West, accepted March 30, 2007, for Group 1056 New Mexico.

The plat representing the dependent resurvey for Township 16 North, Range 5 East, accepted May 14, 2007, for Group 1001 New Mexico.

The plat in four sheets, representing the dependent resurvey and survey for Township 15 North, Range 6 East, accepted May 14, 2007, for Group 1001 New Mexico.

The plat in five sheets, representing the dependent resurvey and survey for Township 15 North, Range 5 East, accepted May 14, 2007, for Group 1001 New Mexico.

Indian Meridian, Oklahoma

The plat representing the dependent resurvey and survey for Township 6 North, Range 5 West, accepted January 10, 2007, for Group 131 Oklahoma.

The plat representing the dependent resurvey and subdivisions of sections for Township 22 North, Range 1 East, accepted March 21, 2007 for Group 141 Oklahoma.

The plat representing the dependent resurvey for Township 6 North, Range 5 West, accepted January 10, 2007 for Group 131 Oklahoma.

The plat representing the dependent resurvey and subdivision of section 30 for Township 2 North, Range 14 West, accepted December 27, 2006, for Group 142 Oklahoma.

The plat representing the dependent resurvey and subdivision of sections for Township 8 North, Range 6 East, accepted February 8, 2007, for Group 108 Oklahoma.

The supplemental plat of section 3, Township 5 South, Range 14 West, accepted January 18, 2007, Oklahoma.

The supplemental plat of sections 4 and 9, Township 5 South, Range 14 West, accepted January 18, 2007, Oklahoma.

The plat representing the dependent resurvey for Township 21 North, Range 9 East, accepted September 26, 2006 for Group 129 Oklahoma.

The plat in two sheets, representing the dependent resurvey and survey for Township 21 North, Range 8 East, accepted September 28, 2006 for Group 129 Oklahoma.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the new Mexico State Office, Bureau of Land Management, and P.O. Box 27115, Santa Fe, New Mexico, 87502-0115. Copies may be obtained from this office upon payment of $1.10 per sheet.

Dated: May 31, 2007.
Robert A. Casias,
Chief Cadastral Surveyor, New Mexico.

[FR Doc. 07-2896 Filed 6-11-07; 8:45 am]

BILLING CODE 4310-FM-M